DEPARTMENT OF THE INTERIOR

Bureau of Indian Affairs

Submission of Information Collection to the Office of Management and Budget for Review Under the Paperwork Reduction Act

AGENCY: Bureau of Indian Affairs, Interior.

ACTION: Notice.

SUMMARY: In compliance with the Paperwork Reduction Act of 1995, this notice announces that the Bureau of Indian Affairs is submitting the information collections titled Tribal Colleges and Universities Annual Report Form, 25 CFR 41.9, OMB Control No. 1076-0105, and the Tribal Colleges and Universities Grant Application Form, 25 CFR 41.8, OMB Control No. 1076-0018, to the Office of Management and Budget for review and approval.

DATES: Submit written comments on or before June 26, 2006.

ADDRESSES: Written comments should be sent directly to the Desk Officer for the Department of the Interior, Office of Management and Budget, Office of Information and Regulatory Affairs, by e-mail to OIRA_DOCKET@omb.eop.gov or by facsimile to (202) 395-6566.

Please send a copy of your comments to Kevin Skenandore, Acting Director, Bureau of Indian Affairs, Office of Indian Education Programs, 1849 C Street, NW., Mail Stop 3609-MIB, Washington, DC 20240-0001. You may also send comments via facsimile to 202-208-3271.

FOR FURTHER INFORMATION CONTACT: You may request further information or obtain copies of the information collections request submission from Keith Neves, (202) 208-3601 or Chris Redman, (202) 208-4397, Education Planning Specialists.

SUPPLEMENTARY INFORMATION: Each tribal college and university receiving financial assistance under the Tribally Controlled College or University Assistance Act of 1978 (Act) is required by the Act, and by 25 CFR Part 41, to provide an accounting of amounts and purposes for which financial assistance was expended for the preceding academic year. A request for comments on this information collection request was published in the Federal Register on January 3, 2006 (71 FR 126). No comments were received regarding these information collection forms.

Request for Comments

You are invited to comment on the following items to the Desk Officer at OMB at the citation in the ADDRESSES section:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

OMB is required to make a decision concerning this information collection request between 30 and 60 days after publication of this document in the Federal Register. Therefore, a comment will receive the best consideration by OMB if it is submitted early during this comment period.

In this notice, the Bureau of Indian Affairs is soliciting comments to the following information collection:

(1) Tribal Colleges and Universities Annual Report Form

Title of Collection: Tribal Colleges and Universities Annual Report Form, 25 CFR 41.9.

OMB Control Number: 1076-0105.

Type of review: Renewal.

Brief description of collection: The information, a report on how grant funds were used, is mandatory by Public Law 95-471 for the respondent to receive or maintain a benefit, specifically grants for students.

Respondents: Tribal College and University administrators.

Number of Respondents: 25.

Estimated time of respondents: 6 hours.

Frequency of response: Annually.

Total annual burden to respondents: 150 hours.

(2) Tribal Colleges and Universities Grant Application Form

Title of Collection: Tribal Colleges and Universities Grant Application Form, 25 CFR 41.8.

OMB Control Number: 1076-0018.

Type of review: Renewal.

Description of Collection: The information, application for grant funds, is mandatory by Public Law 95-471 for the respondent to receive or maintain a benefit, i.e., grants for students.

Respondents: Tribal College and University administrators.

Number of Respondents: 25.

Estimated time of respondents: 6 hours.

Frequency of response: Annually.

Total annual burden to respondents: 150 hours.

Dated: May 22, 2006.
Michael D. Olsen,
Acting Principal Deputy Assistant Secretary—Indian Affairs.

[FR Doc. E6-8185 Filed 5-25-06; 8:45 am]

BILLING CODE 4310-6W-P